DEPARTMENT OF LABOR

Employment and Training Administration

[TA-W-56,674]

CTS Corporation; CTS Communications Components, Inc., Including On-Site Leased Workers of Excel and Spherion Albuquerque, New Mexico; Dismissal of Application for Reconsideration

Pursuant to 29 CFR 90.18(C) an application for administrative reconsideration was filed with the Director of the Division of Trade Adjustment Assistance for workers at CTS Corporation, CTS Communications Components, Inc., including on-site leased workers of Excel and Spherion, Albuquerque, New Mexico. The application contained no new substantial information which would bear importantly on the Department's determination. Therefore, dismissal of the application was issued.

TA-W-56,674; CTS Corporation, CTS Communications Components, Inc., Including On-Site Leased Workers of Excel and Spherion, Albuquerque, New Mexico (June 7, 2005).

Signed at Washington, DC, this 8th day of June 2005.
Timothy Sullivan,
Director, Division of Trade Adjustment Assistance.

[FR Doc. E5-3165 Filed 6-17-05; 8:45 am]

BILLING CODE 4510-30-P